DEPARTMENT OF HEALTH AND HUMAN SERVICES

Administration for Children and Families

Proposed Information Collection Activity: National Medical Support Notice Part A (OMB No.: 0970-0222)

AGENCY: Office of Child Support Enforcement, Administration for Children and Families, HHS.

ACTION: Request for public comment.

SUMMARY: The Office of Child Support Enforcement (OCSE), Administration for Children and Families (ACF), is requesting a 3-year extension of the National Medical Support Notice (NMSN) Part A. This request includes minor revisions to the NMSN Part A form, revisions to and separation of the instructions into a stand-alone attachment, a Part A sample, and the addition of the State Medical Support Contacts and Program Requirements matrix. The current Office of Management and Budget (OMB) approval expires on October 31, 2022.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION: Description: Federal law requires that all child support orders under Title IV-D of the Social Security Act include medical coverage. The Child Support Performance and Incentive Act of 1998 (CSPIA) requires enforcement of this provision; the NMSN Part A is the means to enforce health care orders.

This information collection expedites requests for medical coverage between state child support enforcement agencies and employers. OCSE maintains Part A of the NMSN, which states initiate and send to a parent's employer to complete. States must supply some sensitive information to the parent's employer in order to enroll the child(ren) in the correct health coverage plan. This information includes names, dates of birth, Social Security numbers, and addresses. The employer retains the income withholding part of the form and withholds from the employee's income any premium payments the health care plan may require. Then, the employer's health care administrator enrolls the child(ren) in the health care plan. The Department of Labor (DOL) maintains Part B of the NMSN. This request includes minor revisions to the NMSN Part A form, revisions to and separation of the instructions into a stand-alone attachment, a Part A sample, and the addition of the State Medical Support Contacts and Program Requirements matrix. OCSE will also request from OMB that the NMSN Part A expiration date match the expiration date of the NMSN Part B, which will be submitted by DOL.

Respondents: States and employers.

Annual Burden Estimates
Information collections | Respondent | Total number of respondents | Annual number of responses per respondent | Average burden hours per response | Annual burden hours
National Medical Support Notice Part A and Instructions | States Employers | 54 1,310,727 | 90,194 3.72 | .17 .17 | 827,981 828,904
State Medical Support Contacts and Program Requirements Matrix | States | 54 | 1 | 1 | 54

Estimated Total Annual Burden Hours: 1,656,939.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 U.S.C. 303.32; the Personal Responsibility and Work Opportunity Reconciliation Act of 1996, Public Law 104-193; CSPIA, Pub. L. 105-200, Sec. 401(c); Sec. 609(a)(5)(C) of the Employee Retirement Income Security Act of 1974.

Mary B. Jones,
ACF/OPRE Certifying Officer.

[FR Doc. 2022-09659 Filed 5-4-22; 8:45 am]

BILLING CODE 4184-41-P